DEPARTMENT OF AGRICULTURE

Agricultural Marketing Service

[Doc. No. AMS-ST-19-0016]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection of the Federal Seed Act Labeling and Enforcement.

DATES: Comments on this notice must be received by May 13, 2019 to be assured of consideration.

ADDRESSES: Interested persons are invited to submit comments concerning this notice by using the electronic process available at www.regulations.gov. Written comments may also be submitted to Ernest L. Allen, Director, Seed Regulatory and Testing Division, Science and Technology Programs, Agricultural Marketing Service, U.S. Department of Agriculture, 801 Summit Crossing Place, Suite C, Gastonia, North Carolina 28054-2193; telephone (704) 810-8871; Fax (704) 852-4189. All comments should reference the docket number AMS-ST-19-0016 and note the date and the page number of this issue of the Federal Register. All comments received will be posted without change, including any personal information provided, at www.regulations.gov and will be included in the record and made available to the public.

FOR FURTHER INFORMATION CONTACT: Ernest L, Allen, Seed Regulatory and Testing Division, Science and Technology Programs, Agricultural Marketing Service, U.S. Department of Agriculture, 801 Summit Crossing Place, Suite C, Gastonia, North Carolina 28054-2193; telephone (704) 810-8871; Fax (704) 852-4189.

SUPPLEMENTARY INFORMATION: Due to reorganization within AMS, we have moved from Livestock, Poultry and Seed to Science and Technology Programs.

Title: Federal Seed Act Program.

OMB Number: 0581-0026.

Expiration Date of Approval: August 31, 2019.

Type of Request: Extension and revision of a currently approved information collection.

Abstract: This information collection and these recordkeeping requirements are necessary to conduct the Federal Seed Act (FSA) (7 U.S.C. 1551 et seq.) program with respect to certain testing, labeling, and recordkeeping requirements for agricultural and vegetable seeds in interstate commerce. Regulations under the FSA are contained in 7 CFR part 201.

The FSA, Title II, is a truth-in-labeling law that regulates agricultural and vegetable planting seed in interstate commerce. Seed subject to the FSA must be labeled with certain quality information and Title II requires that information to be truthful. The FSA prohibits the interstate shipment of falsely advertised seed and seed containing noxious-weed seeds that are prohibited from sale in the State into which the seed is being shipped.

No unique forms are required for this information collection. The FSA requires seed in interstate commerce to be tested and labeled. Once seed enters a State, it must comply with the testing and labeling requirements of that State's seed law. The testing and labeling required by FSA nearly always satisfies the State's testing and labeling requirements. The receiving sales, cleaning, testing, and labeling records required by FSA are also records that the shipper would normally keep in good business practice.

The information in this collection is the minimum information necessary to effectively carry out the enforcement of FSA. With the exception of the requirements for entering a new variety into a State seed certification program (set forth separately below), the information collection is entirely recordkeeping rather than reporting.

While the number of applicants has slightly increased, the number of requests has significantly increased creating an increase in burden hours over the previous submission.

Estimate of Burden: Public reporting burden for this collection of information is estimated to average 2.68 hours per response.

Respondents: Interstate shippers and labelers of seed.

Estimated Number of Respondents: 3,221.

Estimated Total Annual Responses: 27,249.66.

Estimated Number of Responses per Respondent: 8.46.

Estimated Total Annual Burden on Respondents: 73,029.09.

Eligibility Requirements for Certification of New Varieties and Recordkeeping

Estimate of Burden: Public reporting burden for this collection of information (eligibility for certification of new varieties) is estimated to average 2.42 hours per response.

Respondents: Entities seeking to enter new varieties into State seed certification programs.

Estimated Number of Respondents: 96.

Estimated Total Annual Responses: 960.

Estimated Number of Responses per Respondent: 10.

Estimated Total Annual Burden on Respondents: 2,323.20 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Ernest L. Allen, Seed Regulatory and Testing Division, Science and Technology Programs, Agricultural Marketing Service, U.S. Department of Agriculture, 801 Summit Crossing Place, Suite C, Gastonia, North Carolina 28054-2193. All comments received will be available for public inspection during regular business hours at the same address.

All responses to this notice will be summarized and included in the request for OMB approval. All comments will become a matter of public record.

Dated: March 11, 2019.
Bruce Summers,
Administrator, Agricultural Marketing Service.

[FR Doc. 2019-04778 Filed 3-13-19; 8:45 am]

BILLING CODE 3410-02-P